DEPARTMENT OF HEALTH AND HUMAN SERVICES

Centers for Disease Control and Prevention

[30Day-19-19ABV]

Agency Forms Undergoing Paperwork Reduction Act Review

In accordance with the Paperwork Reduction Act of 1995, the Centers for Disease Control and Prevention (CDC) has submitted the information collection request titled “Information Collection on Soil-transmitted Helminth Infections in Alabama and Mississippi” to the Office of Management and Budget (OMB) for review and approval. CDC previously published a “Proposed Data Collection Submitted for Public Comment and Recommendations” notice on April 2, 2019 to obtain comments from the public and affected agencies. CDC did not receive any comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Information Collection on Soil-transmitted Helminth Infections in Alabama and Mississippi—New—Center for Global Health (CGH), Centers for Disease Control and Prevention (CDC).

Background and Brief Description

Soil-transmitted helminths (STH) are intestinal worms transmitted through contaminated soil. They include roundworms (Ascaris lumbricoides), whipworms (Trichuris trichiura), hookworms (Ancylostoma duodenale and Necator americanus) and the worm Strongyloides stercoralis. These infections were widespread across the American South through the early 20th century, yet despite the historically high burden of STH infections in these endemic areas of the United States, few resources have been devoted to surveillance, prevention, and treatment of STH infections in recent years and they are missed by routine information collection systems. As a result, the current prevalence of STH infections in previously endemic areas is unknown, but socioeconomic and environmental conditions favorable to ongoing transmission persist in areas of the south, including Alabama and Mississippi. Collecting this data, along with biological specimens to document infection, is critical to determine the prevalence of STH infections, their distribution, and risk factors associated with infection. This data will be used to inform the development and implementation of effective and sustainable prevention and control measures in affected areas.

The core data elements were developed with input from community advocates, and local, state, and federal public health and environmental health partners in both Alabama and Mississippi. The questionnaires have been designed for self-completion by respondents. The data that are collected will be pooled and analyzed by university partners and CDC, to generate hypotheses about potential risk factors for infection.

CDC requests OMB approval to collect critical information, not available otherwise, on the prevalence and distribution of disease and on risk factors, knowledge, attitudes and/or practices related to STH infections among residents in at-risk areas in Alabama and Mississippi. This information is critical for planning and implementation of disease prevention and control strategies targeting STH infections in the southeastern United States.

This data collection is not expected to entail substantial burden for respondents. The estimated total annualized burden associated with this data collection is 220 hours (approximately 958 individuals interviewed × 10 minutes/response). There will be no costs to respondents other than their time.

Estimated Annualized Burden Hours
Type of respondent | Form name | Number of respondents | Number of responses per respondent | Average burden per respondent (in hours)
Child or parent/guardian in Alabama | Questionnaire—Alabama | 600 | 1 | 10/60
Parent/guardian in Mississippi | Questionnaire—Mississippi | 358 | 1 | 10/60
Child or parent/guardian in Mississippi | Anthropometric data—Mississippi | 358 | 1 | 10/60

Jeffrey M. Zirger,
Lead, Information Collection Review Office, Office of Scientific Integrity, Office of Science, Centers for Disease Control and Prevention.

[FR Doc. 2019-14679 Filed 7-9-19; 8:45 am]

BILLING CODE 4163-18-P